NUCLEAR REGULATORY COMMISSION

[NRC-2009-0110]

Office of New Reactors; Final Interim Staff Guidance on Review of Evaluation To Address Adverse Flow Effects in Equipment Other Than Reactor Internals

AGENCY: Nuclear Regulatory Commission (NRC).

ACTION: Notice of availability.

SUMMARY: The NRC is issuing its Final Interim Staff Guidance (ISG) DC/COL-ISG-010 (Agencywide Documents Access and Management System (ADAMS) Accession No. ML092890285). The purpose of this ISG is to modify and provide additional clarity in the guidance for the review of analyses of adverse flow effects in equipment other than reactor internals performed by combined license (COL) and design certification (DC) applicants. This ISG would revise the staff guidance previously issued in March 2007 in the Standard Review Plan (SRP) NUREG 0080, “Standard Review Plan for the Review of Safety Analysis Reports for Nuclear Power Plants,” Section 3.9.2, “Dynamic Testing and Analysis of Systems, Structures, and Components,” Section 3.9.5, “Reactor Pressure Vessel Internals,” and Regulatory Guide 1.20, “Comprehensive Vibration Assessment Program for Reactor Internals During Pre-Operational and Initial Startup Testing.” The NRC staff issues DC/COL-ISGs to facilitate timely implementation of current staff guidance and to facilitate activities associated with review of applications for DCs and COLs by the Office of New Reactors. The NRC staff will also incorporate the approved DC/COL-ISG-010 into the next revision of the SRP and related guidance documents.

Disposition: On March 9, 2009, the NRC staff issued the proposed DC/COL-ISG-010 on “Disposition of Review of Evaluation to Address Adverse Flow Effects in Equipment Other than Reactor Internals,” ADAMS Accession No. ML090510728. There were no comments received on the proposed ISG. Therefore, the guidance is issued as final with only minor editorial changes to the proposed notification as above.

ADDRESSES: The NRC ADAMS provides text and image files of NRC's public documents. These documents may be accessed through the NRC's Public Electronic Reading Room on the Internet at http://www.nrc.gov/reading-rm/adams.html. Persons who do not have access to ADAMS or who encounter problems in accessing the documents located in ADAMS should contact the NRC Public Document Room reference staff by telephone at 1-800-397-4209, 301-415-4737, or by e-mail at pdr.resource@nrc.gov.

FOR FURTHER INFORMATION CONTACT: Ms. Jennifer L. Dixon-Herrity, Chief, Engineering Mechanics Branch 2, Division of Engineering, Office of the New Reactors, U.S. Nuclear Regulatory Commission, Washington, DC 20555-0001; telephone at 301-415-2967 or by e-mail at jennifer.dixon-herrity@nrc.gov.

SUPPLEMENTARY INFORMATION: The agency posts its issued staff guidance in the agency external Web page (http://www.nrc.gov/reading-rm/doc-collections/isg/).

Dated at Rockville, Maryland, this 3rd day of November 2009.
For the Nuclear Regulatory Commission.
William F. Burton,
Branch Chief, Rulemaking and Guidance Development Branch, Division of New Reactor Licensing, Office of New Reactors.

[FR Doc. E9-27154 Filed 11-10-09; 8:45 am]

BILLING CODE 7590-01-P